NATIONAL SCIENCE FOUNDATION

Request for Feedback on the Interagency Arctic Research Policy Committee's Draft Principles for Conducting Research in the Arctic

ACTION: Request for public comment on Principles for Conducting Research in the Arctic; Corrected.

SUMMARY: The National Science Foundation (NSF) published a document in the Federal Register of July 5, 2018, concerning request for public comment on the Principles for Conducting Research in the Arctic. The notice was published without a link to the document under review.

Correction

In the Federal Register published July 5, 2018, in FR Doc. 2018-14388 (Filed 7-3-18), on page 31424, fourth column, Summary Section, first paragraph, please add the following web link after the text “Principles for Conducting Research in the Arctic”: https://www.iarpccollaborations.org/principles.html.

For Further information, please contact Renee Crain rcrain@nsf.gov or 703-292-4482.

Dated: July 6, 2018.
Suzanne H. Plimpton,
Reports Clearance Officer, National Science Foundation.

[FR Doc. 2018-14802 Filed 7-10-18; 8:45 am]

BILLING CODE 7555-01-P